DEPARTMENT OF DEFENSE

Office of the Secretary

Proposed Collection: Comment Request

AGENCY: Defense Logistics Agency, Office of Small and Disadvantaged Business Utilization, DoD.

ACTION: Notice.

In compliance with section 3506(c)(2)(A) of the Paperwork Reduction Act of 1995, the Defense Logistics Agency announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 10, 2005.

ADDRESSES: Written comments and recommendations on the proposed information collection should be sent to Director, Defense Logistics Agency, ATTN: Diana Maykowskyj, DB, 8725 John J. Kingman Road, Suite 1127, Fort Belvoir, VA 22060-6221.

FOR FURTHER INFORMATION CONTACT: To request more information on this proposed information collection or to obtain a copy of the proposed and associated collection instruments, please write to the above address, or call Ms. Diana Maykowskyj at (703) 767-1656.

Title; Associated Form; and OMB Number: Request for approval for Procurement Technical Assistance Center Cooperative Agreement Performance Report, DLA Form 1806, OMB Control Number 0704-0320.

Needs and Uses: The Defense Logistics Agency uses the report as the principal instrument for measuring the performance of Cooperative Agreement awards made under 10 U.S.C. Chapter 142.

Affected Public: State and local governments, private nonprofit organizations, Indian tribal organizations and Indian economic enterprises.

Annual Burden Hours: 1288.

Number of Respondents: 92.

Responses per Respondent: 2.

Average Burden per Response: 7 hours.

Frequency: Semiannually.

SUPPLEMENTARY INFORMATION:

Summary of Information Collection

Each cooperative agreement award recipient submitted goals and objectives in their application that were subsequently incorporated into their cooperative agreement awards. The level of achievement of these goals and the funds expended in the process of conducting the program is measured by the report. The government's continued funding of a cooperative agreement and the decision to exercise an option award for a cooperative agreement award is based to a significant degree on the award holder's current performance as measured by the report.

Information from the report is also used to identify programs that may be in need of assistance and/or increased surveillance.

Dated: March 31, 2005.
Patricia L. Toppings,
Alternate OSD Federal Register Liaison Officer, Department of Defense.

[FR Doc. 05-7125 Filed 4-8-05; 8:45 am]

BILLING CODE 5001-06-M